DEPARTMENT OF DEFENSE

Department of the Army, Corps of Engineers

[Permit No. NAE-2020-00707]

Notice of Final Federal Agency Action on the Authorization for the Revolution Wind Farm and Revolution Wind Export Cable Project Offshore Rhode Island

AGENCY: Department of the Army, U.S. Army Corps of Engineers, DoD.

ACTION: Notice of limitation on claims for judicial review of actions by the U.S. Army Corps of Engineers (USACE).

SUMMARY: USACE announces final agency action on the USACE authorization for the proposed construction and maintenance of the Revolution Wind Farm and Revolution Wind Offshore Export Cable Project (the Revolution Wind Project) offshore Rhode Island. USACE has issued a permit authorizing the construction and maintenance of the Revolution Wind Project under section 10 of the Rivers and Harbors Act of 1899 (RHA) and section 404 of the Clean Water Act (CWA). The Revolution Wind Project is a “covered project” under title 41 of the Fixing America's Surface Transportation Act.

DATES: A claim seeking judicial review of the USACE authorization of construction and maintenance of the Revolution Wind Project will be barred unless the claim is filed not later than two years after this notice's publication date. If the Federal law that allows for judicial review of the USACE authorization specifies a shorter time period for filing such a claim, then that shorter time period will apply.

FOR FURTHER INFORMATION CONTACT: Ms. Ruth Brien, Regulatory Project Manager, Regulatory Division, USACE, New England District, 696 Virginia Road, Concord, Massachusetts 01742, (978) 318-8054 or cenae-r-offshorewind@usace.army.mil.

SUPPLEMENTARY INFORMATION: Notice is hereby given that USACE has taken final agency action on its authorization for the proposed Revolution Wind Project by issuing a permit authorizing construction and maintenance of the Project under section 10 of the RHA and section 404 of the CWA. The majority of the authorized work will occur in the Atlantic Ocean within the Bureau of Ocean Energy Management (BOEM) Renewable Energy Lease Area OCS-A-0486, which is approximately 15 nautical miles (nm) southeast of Point Judith, Rhode Island, approximately 13 nm east of Block Island, Rhode Island, and approximately 7.5 nm south of Nomans Land Island National Wildlife Refuge.

The work authorized under the USACE permit includes the following: (1) the installation of up to 65 wind turbine generators (WTGs) and up to 2 offshore substations (OSSs) with associated scour protection, (2) the installation of 155 miles of inter-array cables connecting the WTGs and 9 miles of inter-link cables connecting the OSSs with associated secondary cable protection as needed, and (3) installation of up to 2 export transmission cables with associated secondary cable protection within a 42-mile-long offshore export cable corridor extending from the lease area north into Rhode Island Sound and Narragansett Bay, making landfall near Quonset Point in North Kingstown, Rhode Island.

The USACE's decision to issue a permit, and the laws under which the action was taken, are described in the Revolution Wind Export Cable Project Final Environmental Impact Statement (FEIS) published on July 21, 2023, in the joint Record of Decision (ROD) issued on August 21, 2023, and in other project records. The FEIS, ROD, and other documents can be viewed and downloaded from the BOEM project website at https://www.boem.gov/renewable-energy/state-activities/revolution-wind. The USACE permit can be viewed and downloaded from the USACE website at https://www.nae.usace.army.mil/Missions/Regulatory/Permits-Issued/Orsted-Revolution-Wind-LLC-Oct-2023/. By this notice, USACE is advising the public of final agency action subject to 42 U.S.C. 4370m-6(a)(1)(A).

Authority: 42 U.S.C. 4370m-6(a)(1)(A).

John P. Lloyd,
Brigadier General, Commanding.

[FR Doc. 2024-04780 Filed 3-5-24; 8:45 am]

BILLING CODE 3720-58-P